DEPARTMENT OF TRANSPORTATION

Federal Aviation Administration

Approval of Noise Compatibility Program, Jackson Hole Airport, Jackson, WY

AGENCY: Federal Aviation Administration, DOT.

ACTION: Notice.

SUMMARY: The Federal Aviation Administration (FAA) announces its findings on the noise compatibility program submitted by the Airport Director of Jackson Hole Airport under the provisions of 49 U.S.C. Sec. 47504(b) and 14 CFR Part 150. These findings are made in recognition of the description of Federal and non-Federal responsibilities in Senate Report No. 96-52 (1980).

On November 19, 2003, the FAA determined that the noise exposure maps submitted by the Airport Director under Part 150 were in compliance with applicable requirements. On May 17, 2004, the Associate Administrator for Airports approved the Jackson Hole Airport noise compatibility program. The Associate Administrator for Airports has made the following determinations: Elements 1 and 2 require no FAA approval action, element 3 requires no FAA determination with regard to Stage 2 aircraft and is disapproved with regard to Stage 3 aircraft, elements 4 and 7 were disapproved, and elements 5 and 6 were approved.

EFFECTIVE DATE: The effective date of the FAA's approval of the Jackson Hole Airport noise compatibility program is May 17, 2004.

FOR FURTHER INFORMATION CONTACT: Dennis G. Ossenkop; Federal Aviation Administration; Northwest Mountain Region; Airports Division, ANM-611; 1601 Lind Avenue, SW., Renton, Washington 98055-4056. Documents reflecting this FAA action may be reviewed at this same location.

SUPPLEMENTARY INFORMATION: This notice announces that the FAA has given its overall approval to the noise compatibility program for Jackson Hole Airport, effective May 17, 2004. Under 49 U.S.C. Sec. 47504(a), an airport operator who has previously submitted a noise exposure map may submit to the FAA a noise compatibility program which sets forth the measures taken or proposed by the airport operator for the reduction of existing noncompatible land uses and prevention of additional noncompatible land uses within the area covered by the noise exposure maps. 49 U.S.C. 47503(a)(1) requires such a program to be developed in consultation with interested and affected parties including the state, local communities, government agencies, airport users, and FAA personnel.

Each airport noise compatibility program developed in accordance with Federal Aviation Regulation (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types or classes of aeronautical uses, violate the terms of airport grant agreements, or intrude into areas preempted by the Federal Goverment; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, Section 150.5. Approval is not a determination concerning the acceptability of land uses under Federal, state, or local law. Approval does not by itself constitute a FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Denver, Colorado.

The Airport Director of Jackson Hole Airport submitted to the FAA the noise exposure maps, descriptions, and other documentation produced during the noise compatibility planning study conducted at Jackson Hole Airport. The Jackson Hole Airport noise exposure maps were determined by FAA to be in compliance with applicable requirements on November 19, 2003. Notice of this determination was published in the Federal Register on December 2, 2003.

The Jackson Hole Airport noise compatibility program contains a proposed noise compatibility program comprised of actions designed for phased implementation by airport management and adjacent jurisdictions from the date of study completion to the year 2008. It was requested that the FAA evaluate and approve this material as a noise compatibility program as described in 49 U.S.C. Sec. 47504(a). The FAA began its review of the program on November 19, 2003, and was required by a provision of 49 U.S.C. Sec. 47504(b) to approve or disapprove the program within 180 days (other than the use of new flight procedures for noise control). Failure to approve or disapprove such program within the 180-day period shall be deemed to be an approval of such program.

The FAA completed its review and determined that the procedural and substantive requirements of 49 U.S.C. Sec. 47504(b) and FAR 150 have been satisfied. The overall program, therefore, was approved by the Associate Administrator for Airports effective May 17, 2004.

These determinations are set forth in detail in a Record of Approval endorsed by the Associate Administrator for Airports on May 17, 2004. The Record of Approval, as well as other evaluation materials and the documents comprising the submittal are available for review at the FAA office listed above and at the administrative offices of the Jackson Hole Airport.

Issued in Renton, Washington, on June 4, 2004.
David A. Field,
Manager, Planning, Programming, and Capacity Branch, Northwest Mountain Region.

[FR Doc. 04-13301 Filed 6-10-04; 8:45 am]

BILLING CODE 4910-13-M